ENVIRONMENTAL PROTECTION AGENCY

[EPA-HQ-OAR-2022-0062; FRL-10747-01-OMS]

Agency Information Collection Activities; Submission to the Office of Management and Budget for Review and Approval; Comment Request; NSPS for Phosphate Rock Plants (Renewal)

AGENCY: Environmental Protection Agency (EPA).

ACTION: Notice.

SUMMARY: The Environmental Protection Agency (EPA) has submitted an information collection request (ICR), NSPS for Phosphate Rock Plants (EPA ICR Number 1078.13, OMB Control Number 2060-0111) to the Office of Management and Budget (OMB) for review and approval in accordance with the Paperwork Reduction Act. This is a proposed extension of the ICR, which is currently approved through March 31, 2023. Public comments were previously requested via the Federal Register on July 22, 2022, during a 60-day comment period. This notice allows for an additional 30 days for public comments.

DATES: Comments may be submitted on or before May 1, 2023.

ADDRESSES: Submit your comments, referencing Docket ID Number EPA-HQ-OAR-2022-0062, to EPA online using www.regulations.gov (our preferred method), by email to a-and-r-Docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this specific information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through July 22, 2022 during a 60-day comment period (87 FR 43843). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for the regulations published at 40 CFR part 60, subpart NN apply to the following existing facilities and new facilities at phosphate rock plants with capacities greater than 4 tons per hour: dryers, calciners, grinders, and ground rock handling and storage facilities, except those facilities producing or preparing phosphate rock solely for consumption in elemental phosphorus production. New facilities include those that commenced construction, modification or reconstruction after the date of proposal. This information is being collected to assure compliance with 40 CFR part 60, subpart NN.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of phosphate rock plants.

Respondent's obligation to respond: Mandatory (40 CFR, part 60, Subpart NN).

Estimated number of respondents: 1 (total).

Frequency of response: Initially and semiannually.

Total estimated burden: 120 hours (per year). Burden is defined at 5 CFR 1320.3(b).

Total estimated cost: $22,400 (per year), which includes $8,400 in annualized capital/startup and/or operation & maintenance costs.

Changes in the Estimates: There is a decrease in the total estimated respondent burden compared with the ICR currently approved by OMB, which is due to a decrease in the number of sources. This is due to an adjustment to reflect that phosphate rock facilities subject to the NESHAP for Phosphoric Acid Manufacturing (40 CFR part 63, subpart AA), as amended on August 19, 2015, are exempt from any otherwise applicable new source performance standards contained in 40 CFR part 60, subpart T, subpart U, or subpart NN, provided sources have a current operating permit pursuant of title V of the Clean Air Act. Most phosphate rock plants previously included as respondents to 40 CFR part 60, subpart NN are subject to 40 CFR part 63, subpart AA. Only one respondent is now subject to subpart NN. The previous ICR indicated 15 sources were subject to this subpart, which indicates a 94 percent decrease in the number of respondents. The reduced number of respondents also results in a subsequent decrease in the operation and maintenance costs. There are no new sources anticipated, therefore there is no anticipated change in capital costs.

Courtney Kerwin,
Director, Regulatory Support Division.

[FR Doc. 2023-06548 Filed 3-29-23; 8:45 am]

BILLING CODE 6560-50-P